ENVIRONMENTAL PROTECTION AGENCY

[EPA-HQ-OAR-2015-0072; FRL-9955-78-OAR]

Release of the Final Integrated Review Plan for the National Ambient Air Quality Standards for Particulate Matter

AGENCY: Environmental Protection Agency (EPA).

ACTION: Notice of availability.

SUMMARY: The Environmental Protection Agency (EPA) is announcing the availability of the final document titled Integrated Review Plan for the National Ambient Air Quality Standards for Particulate Matter (IRP). The IRP presents the planned approach and anticipated schedule for the review of the air quality criteria for particulate matter (PM) and the primary and secondary national ambient air quality standards (NAAQS) for PM. The primary and secondary NAAQS for PM are set to protect the public health and public welfare, respectively, from exposures to PM in ambient air.

DATES: The IRP will be available on or about December 5, 2016.

ADDRESSES: The IRP will be available primarily via the Internet at https://www3.epa.gov/ttn/naaqs/standards/pm/s_pm_2014_pd.html.

FOR FURTHER INFORMATION CONTACT: Dr. Scott Jenkins, Office of Air Quality Planning and Standards (Mail code C504-06), U.S. Environmental Protection Agency, Research Triangle Park, NC 27711; telephone number: 919-541-1167; email: jenkins.scott@epa.gov.

SUPPLEMENTARY INFORMATION: Two sections of the Clean Air Act (CAA) govern the establishment and revision of the NAAQS. Section 108 (42 U.S.C. 7408) directs the Administrator to identify and list certain air pollutants and then to issue air quality criteria for those pollutants. The Administrator is to list those air pollutants that in his or her “judgment, cause or contribute to air pollution which may reasonably be anticipated to endanger public health or welfare;” “the presence of which in the ambient air results from numerous or diverse mobile or stationary sources;” and “for which . . . [the Administrator] plans to issue air quality criteria . . .” Air quality criteria are intended to “accurately reflect the latest scientific knowledge useful in indicating the kind and extent of all identifiable effects on public health or welfare which may be expected from the presence of [a] pollutant in the ambient air . . .” (42 U.S.C. 7408(b)). Under section 109 (42 U.S.C. 7409), the EPA establishes primary (health-based) and secondary (welfare-based) NAAQS for pollutants for which air quality criteria are issued. Section 109(d) requires periodic review and, if appropriate, revision of existing air quality criteria. Revised air quality criteria reflect advances in scientific knowledge on the effects of the pollutant on public health or welfare. The EPA is also required to periodically review and, if appropriate, revise the NAAQS based on the revised criteria. Section 109(d)(2) requires that an independent scientific review committee “shall complete a review of the criteria . . . and the national primary and secondary ambient air quality standards . . . and shall recommend to the Administrator any new . . . standards and revisions of the existing criteria and standards as may be appropriate . . . .” Since the early 1980s, this independent review function has been performed by the Clean Air Scientific Advisory Committee (CASAC).

Presently, the EPA is reviewing the criteria and the primary and secondary NAAQS for PM.¹ The IRP being announced today has been developed as part of the planning phase for the review. This phase began with a science policy workshop to identify issues and questions to frame the review.² Drawing from the workshop discussions, a draft IRP was prepared jointly by the EPA's National Center for Environmental Assessment, within the Office of Research and Development, and the EPA's Office of Air Quality Planning and Standards, within the Office of Air and Radiation. The draft IRP presented the anticipated plan and schedule for the entire review, the process for conducting the review, and the key policy-relevant science issues that will guide the review. The draft IRP was reviewed by the CASAC at a teleconference on May 23, 2016. The CASAC's advice on the draft IRP was conveyed in a letter to the Administrator dated August 31, 2016.³ The final IRP being released at this time reflects consideration of the CASAC's advice and public comments received on the draft IRP.

¹ The EPA's call for information for this review was issued on December 3, 2014 (79 FR 71764).

² The EPA held a workshop titled “Workshop to Discuss Policy-Relevant Science to Inform EPA's Review of the Primary and Secondary NAAQS for PM” on February 9-11, 2015 (79 FR 71764).

³ Available at: https://yosemite.epa.gov/sab/sabproduct.nsf/4620a620d0120f93852572410080d786/9920C7E70022CCF98525802000702022/$File/EPA-CASAC+2016-003+unsigned.pdf.

Dated: December 1, 2016.
Stephen Page,
Director, Office of Air Quality Planning and Standards.

[FR Doc. 2016-29231 Filed 12-5-16; 8:45 am]

BILLING CODE 6560-50-P